DEPARTMENT OF THE INTERIOR

National Park Service

National Register of Historic Places; Notification of Pending Nominations and Related Actions

Nominations for the following properties being considered for listing or related actions in the National Register were received by the National Park Service before April 23, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 1, 2005.

Carol D. Shull,
Keeper of the National Register of Historic Places.

ARKANSAS

Benton County

Mitchell—Ward House, 201 N. Nelson, Gentry, 05000486.

Chicot County

McGehee, Dr. E.P., Infirmary, 614 S. Cokley St., Lake Village, 05000487.

Columbia County

Greek Amphitheatre, Jct. East Lane Dr., E. University St. & Crescent Dr., Magnolia, 05000488.

Crawford County

Fairview Cemetery, Bounded by AR 59, McKibben Ave. & Poplar St., Van Buren, 05000489.

Cross County

Johnston, John H., Cotton Gin Historic District, (Cotton and Rice Farm History and Architecture in the Arkansas Delta MPS) Jct. U.S. 64 & AR 163, Levesque, 05000490.

Desha County

Kemp Cotton Gin Historic District, (Cotton and Rice Farm History and Architecture in the Arkansas Delta MPS) Cty.Rd. 227 W. of AR 1, Rohwer, 05000491.

Faulkner County

Hall, Charlie, House, (Mixed Masonry Buildings of Silas Owens, Sr. MPS) 221 Old U.S. 65, Twin Groves, 05000492.

Langley, Farris and Evelyn, House, (Mixed Masonry Buildings of Silas Owens, Sr. MPS) 12 Langley Ln., Republican, 05000493.

Quattlebaum—Pelletier House, (Mixed Masonry Buildings of Silas Owens, Sr. MPS) 43 Ozark, Twin Groves, 05000494.

Salter, James and Jewell, House, (Mixed Masonry Buildings of Silas Owens, Sr. MPS) 159 S. Broadview, Greenbriar, 05000495.

Jefferson County

Pine Bluff Civic Center, 200 E. 8th Ave., Pine Bluff, 05000496.

Logan County

Union Church and School, 2158 Union Rd., Paris, 05000497.

Nevada County

De Ann Cemetery Historic Section, ½ mi. W. of Jct. U.S. 371 & AR 19, Prescott, 05000498.

Pope County

Russellville Masonic Temple, 205 S. Commerce, Russellville, 05000499.

Pulaski County

Climber Motor Car Factory, Unit A, (Arkansas Highway History and Architecture MPS) 1823 E. 17th St., Little Rock, 05000500.

FLORIDA

Sarasota County

Bryson—Crane House, 5050 Brywill Cir., Sarasota, 05000501.

HAWAII

Kauai County

Pu'u'opae Bridge, Pu'u'opae Rd. between Kalama & Kipapa Rds., Kapa'a, 05000536.

ILLINOIS

Cook County

Burnham, Anita Willets, Log House, 1140 Willow Rd., Winnetka, 05000502.

KANSAS

Douglas County

Black Jack Battlefield (Boundary Increase), Jct. E. 2000th & N. 175th Rds., Baldwin City, 05000503.

LOUISIANA

Caddo Parish

Lakeside Municipal Golf Course, 2200 Milam, Shreveport, 05000504.

East Feliciana Parish

1903 Clinton High School, 11050 Bank St., Clinton, 05000505. 1938 Clinton High School, 12525 Cedar, Clinton, 05000506.

Iberville Parish

Plaquemine Historic District, 57725 Court St., Plaquemine, 05000507.

MINNESOTA

Hennepin County

Chicago, Milwaukee and St. Paul Railroad Grade Separation, (Reinforced-Concrete Highway Bridges in Minnesota MPS), Parallel to 29th St. between Humboldt & 20th Aves. S., Minneapolis, 05000508.

MISSOURI

Cape Girardeau County

Southeast Missourian Building, (Cape Girardeau, Missouri MPS), 301 Broadway, Cape Girardeau, 05000509.

Jackson County

Kansas City Cold Storage Company Building, (Railroad Related Historic Commercial and Industrial Resources in Kansas City, Missouri MPS), 500 E. 3rd St., Kansas City, 05000510.

MONTANA

Beaverhead County

Canyon Creek Charcoal Kilns, Approx. 5 mi. NW of Glendale on Forest Rd. 187, Glendale, 05000511.

Carbon County

Gebo Barn, (Fromberg MPS), 2.5 mi. S. of Fromberg on River Rd., Fromberg, 05000512.

NEVADA

Lyon County

Fernley and Lassen Railway Depot, 675 E. Main St., Fernley, 05000513.

NORTH CAROLINA

Madison County

Murray, Thomas J., Address Restricted, Mars Hill, 05000514.

Martin County

Bear Grass School, 6344 E. Bear Grass Rd., Bear Grass, 05000515.

OREGON

Multnomah County

Woerner, Louis and Elizabeth, 2815 NE Alameda, Portland, 05000516.

SOUTH CAROLINA

Florence County

Blooming Grove, E. end of Rogers Court, Florence, 05000517.

Richland County

North Columbia Fire Station No. 7, 2622 N. Main St., Columbia, 05000518.

TEXAS

Gillespie County

Wrede School, 3929 S. TX 16, Fredericksburg, 05000519.

Hays County

Cen-Tex Wool Mill Historic District, 101 Uhland Rd., San Marcos, 05000520.

VIRGINIA

Albemarle County

Covesville Historic District, Roughly along RR tracks, U.S. 29, Covesville Ln. & Boaz Rd., Covesville, 05000521.

Fauquier County

Yorkshire House, 405 Winchester St., Warrenton, 05000522.

Henry County

Marshall Field and Company Clubhouse, 2692 River Rd., Fieldale, 05000523.

Lunenburg County

Brickland, 6877 Brickland Rd., Kenbridge, 05000524.

Newport News Independent City

St. Vincent de Paul Catholic Church, 230 33rd St., Newport News, 05000525.

Northumberland County

Claude W. Somers (skipjack), 504 Main St., Reedville, 05000526.

Richmond Independent City

Main Street Banking Historic District, E. Main St. between 7th & Governors Sts., Richmond, 05000527.

Rockingham County

Long Meadow, 2525 Fridleys Gap Rd., Harrisonburg, 05000528.

WISCONSIN

Ashland County

Coole Park Manor, 351 Old Fort Rd., LaPointe, 05000529.

Milwaukee County

Northwestern Branch, National Home for Disabled Volunteer Soldiers Historic District, 5000 W. National Ave., Milwaukee, 05000530.

Monroe County

Williams, William G. and Anne, House, 220 E. Franklin St., Sparta, 05000531.

Oconto County

White Potato Lake Garden Beds Site, Address Restricted, Brazeau, 05000532.

Portage County

Green, August G. and Theresa, House, 1501 Main St., Stevens Point, 05000533.

Rock County

Hugunin, John and Martha, House, 2739 Beloit Ave., Janesville, 05000534.

Sheboygan County

Hetty Taylor (shipwreck), (Great Lakes Shipwreck Sites of Wisconsin MPS) Lake Michigan, 7 mi. SE of Sheboygan R., Sheboygan, 05000535.

[FR Doc. 05-9737 Filed 5-16-05; 8:45 am]

BILLING CODE 4312-51-P